ELECTION ASSISTANCE COMMISSION

Technical Guidelines Development Committee

AGENCY: U.S. Election Assistance Commission.

ACTION: Notice of public meeting.

SUMMARY: In accordance with the Federal Advisory Committee Act (FACA), notice is hereby given that the U.S. Election Assistance Commission's (EAC) Technical Guidelines Development Committee (TGDC) will meet in open session on Monday, September 11, 2017 and Tuesday, September 12, 2017 at the U.S. Election Assistance Commission in Silver Spring, MD.

DATES and TIMES: The meeting will be held on Monday, September 11, 2017, from 9:00 a.m. until 5:00 p.m., Eastern time, and Tuesday, September 12, 2017 from 9:00 a.m. to 1:00 p.m., Eastern time (estimated based on speed of business).

ADDRESSES: The meeting will take place at the U.S. Election Assistance Commission, 1335 East West Highway (First Floor Conference Room), Silver Spring, MD 20910, (301) 563-3919.

Agenda Information: Presentations and discussions at the meeting will include the following topics: (1) Update from the National Institute of Standards and Technology (NIST); (2) Review of Voluntary Voting System Guidelines (VVSG 2.0), Adoption Process and Transitioning Standards; (3) Security & Accessibility Meeting Update; (4) Overview and Discussion of Principles & Guidelines; (5) Overview & Update on Requirements and Test Assertions; (6) Cyber Security Presentation; and (7) Critical Infrastructure/MS-ISAC Presentation. Committee members will discuss next steps in the adoption process for VVSG 2. The full meeting agenda will be posted in advance at http://vote.nist.gov/. All sessions of this meeting will be open to the public.

Members of the public may submit relevant written statements to the TGDC with respect to the meeting no later than 5:00 p.m. EDT on Tuesday, September 5, 2017. Statements may be sent via email at facaboards@eac.gov, via standard mail addressed to the U.S. Election Assistance Commission, 1335 East West Highway, Suite 4300, Silver Spring, MD 20910, or by fax at 301-734-3108. All comments will also be posted on http://vote.nist.gov/.

The TGDC was established in accordance with the requirements of Section 221, of the Help America Vote Act of 2002 (Pub. L. 107-252, codified at 42 U.S.C 15361), to act in the public interest to assist the Executive Director of the U.S. Election Assistance Commission (EAC) in the development of voluntary voting system guidelines. Details regarding the TGDC's activities are available at http://vote.nist.gov/.

This meeting will be open to the public.

Bryan Whitener,
Director, National Clearinghouse on Elections, U.S. Election Assistance Commission.

[FR Doc. 2017-17793 Filed 8-22-17; 8:45 am]

BILLING CODE 4810-71-P